DEPARTMENT OF AGRICULTURE

Submission for OMB Review; Comment Request

April 6, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 11, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Importation of Fresh Citrus Fruit from Uruguay into the United States.

OMB Control Number: 0579-0401.

Summary of Collection: Under the Plant Protection Act (7 U.S.C. 7701 et seq.), the Secretary of Agriculture is authorized to carry out operations or measures to detect, eradicate, suppress, control, prevent, or retard the spread of plant pests new to the United States or not known to be widely distributed throughout the United States. The regulations in “Subpart—Fruits and Vegetables” (Title 7, Code of Federal Regulations (CFR) 319.56, referred to as the regulations), prohibit or restrict the importation of fruits and vegetables into the United States from certain parts of the world to prevent the introduction and dissemination of plant pests that are new to or not widely distributed with the United States. APHIS' fruits and vegetables regulations allow, under certain conditions, the importation into the United States of commercial consignments of fresh citrus fruit from Uruguay

Need and Use of the Information: APHIS uses the following information activities to verify that citrus fruit from Uruguay is grown in production areas that are registered and monitored by the North American Plant Protection Organization (NPPO) and to verify consignments have been produced with a systems approach: Bilateral Workplan, Production Site Registration, Phytosanitary Certificate, Labeling Boxes, Monitoring and Inspection, Investigation and Appropriate Remedial Action, Recordkeeping, Registration of Packinghouses, Certified Facility, and Monitoring. Failure to collect the information would cause millions of dollars in losses and cripple APHIS' ability to ensure that fresh citrus from Uruguay is not carrying plant pests.

Description of Respondents: Business or other for-profit and Federal Government.

Number of Respondents: 16.

Frequency of Responses: Recordkeeping; Reporting: On occasion.

Total Burden Hours: 1,351.

Animal Plant and Health Inspection Service

Title: Importation of Fresh Beans, Shelled or in Pods from Jordan into the Continental United States.

OMB Control Number: 0579-0405.

Summary of Collection: Under the Plant Protection Act (7 U.S.C. 7701 et seq.), the Secretary of Agriculture is authorized to carry out operations or measures to detect, eradicate, suppress, control, prevent, or retard the spread of plant pests new to the United States or not known to be widely distributed throughout the United States. The regulations in “Subpart—Fruits and Vegetables” (Title 7, Code of Federal Regulations (CFR) 319.56, referred to as the regulations), prohibit or restrict the importation of fruits and vegetables into the United States from certain parts of the world to prevent the introduction and dissemination of plant pests that are new to or not widely distributed with the United States. The fruits and vegetables regulations allow the importation of commercial shipments of fresh beans, shelled or in pods (French, green, snap, and string) from Jordan into the continental United States. As a condition of entry, the beans have to be produced in accordance with a system approach that includes requirements for packing, washing, and processing.

Need and Use of the Information: APHIS uses the following information activities to verify that fresh beans from Jordan are grown in production areas that are registered and monitored by the North American Plant Protection Organization (NPPO) of Jordan: (1) Phytosanitary Certificate with/Declaration, (2) Packinghouse Registration, (3) Box Labeling, and (4) Inspections.

Description of Respondents: Business or other for-profit and Federal Government.

Number of Respondents: 5.

Frequency of Responses: Reporting: On occasion.

Total Burden Hours: 58.

Ruth Brown,
Departmental Information Collection Clearance Officer.

[FR Doc. 2017-07244 Filed 4-10-17; 8:45 am]

BILLING CODE 3410-34-P